ENVIRONMENTAL PROTECTION AGENCY

[FRL-9798-01-R1]

2022 Spring Joint Meeting of the Ozone Transport Commission and the Mid-Atlantic Northeast Visibility Union

AGENCY: Environmental Protection Agency (EPA).

ACTION: Notice; meeting.

SUMMARY: The United States Environmental Protection Agency (EPA) is announcing the joint 2022 Spring Meeting of the Ozone Transport Commission (OTC) and the Mid-Atlantic Northeast Visibility Union (MANE-VU). The meeting agenda will include topics regarding reducing ground-level ozone precursors and matters relevant to regional haze and visibility improvement in Federal Class I areas in a multi-pollutant context.

DATES: The meeting will be held on June 2, 2022 starting at 9:30 a.m. and ending at 12:00 p.m.

ADDRESSES: Crowne Plaza Princeton Conference Center, 900 Scudders Mill Road, Plainsboro, NJ 08536, (609) 936-4200.

FOR FURTHER INFORMATION CONTACT: For documents and press inquiries contact: Ozone Transport Commission, 89 South Street, Suite 602, Boston, MA 02111, (617) 259-2005; email: ozone@otcair.org; website: https://www.otcair.org.

SUPPLEMENTARY INFORMATION: The Clean Air Act Amendments of 1990 contain Section 184 provisions for the Control of Interstate Ozone Air Pollution. Section 184(a) establishes an Ozone Transport Region (OTR), which is currently comprised of the States of Connecticut, Delaware, parts of Maine, Maryland, Massachusetts, New Hampshire, New Jersey, New York, Pennsylvania, Rhode Island, Vermont, parts of Virginia, and the District of Columbia. The purpose of the OTC is to address ground-level ozone formation, transport, and control within the OTR.

The Mid-Atlantic/Northeast Visibility Union (MANE-VU) was formed at in 2001 in response to EPA's issuance of the Regional Haze rule. MANE-VU's members include: Connecticut, Delaware, the District of Columbia, Maine, Maryland, Massachusetts, New Hampshire, New Jersey, New York, Pennsylvania, Rhode Island, Vermont, the Penobscot Indian Nation, and the St. Regis Mohawk Tribe, along with EPA and Federal Land Managers.

Type of Meeting: Open.

Agenda: Copies of the final agenda will be available from the OTC office (617) 259-2005; by email: ozone@otcair.org or via the OTC website at https://www.otcair.org.

Dated: April 21, 2022.
David Cash,
Regional Administrator, EPA Region 1.

[FR Doc. 2022-08980 Filed 4-26-22; 8:45 am]

BILLING CODE 6560-50-P